DEPARTMENT OF AGRICULTURE

Animal and Plant Health Inspection Service

[Docket No. APHIS-2025-0034]

Notice of Proposed Revision to Requirements for the Movement of Fresh Persian Lime Fruit for Consumption From Hawaii Into the Continental United States

AGENCY: Animal and Plant Health Inspection Service, USDA.

ACTION: Notice of availability.

SUMMARY: We are advising the public that we have prepared a pest risk analysis relative to the interstate movement of fresh Persian lime fruit (Citrus latifolia (Yu. Tanaka) Tanaka) for consumption into the continental United States. The interstate movement of fresh Persian lime fruit from Hawaii into the continental United States is currently authorized, provided that the limes are either subject to forced hot air treatment or irradiation. Based on the findings of the risk analysis, we are also proposing to authorize the interstate movement of fresh Persian lime fruit for consumption from Hawaii under a systems approach as an alternative to the current mitigation structures. We are making the pest risk analysis available to the public for review and comment.

DATES: We will consider all comments that we receive on or before March 30, 2026.

ADDRESSES: You may submit comments by either of the following methods:

• Federal eRulemaking Portal: Go to www.regulations.gov. Enter APHIS-2025-0034 in the Search field. Select the Documents tab, then select the Comment button in the list of documents.

• Postal Mail/Commercial Delivery: Send your comment to Docket No. APHIS-2025-0034, Regulatory Analysis and Development, PPD, APHIS, 5601 Sunnyside Avenue, Beltsville, MD 20705.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Derek A. Woller, Senior Regulatory Policy Specialist, Pest Exclusion and Import Permits, Import Regulations and Manuals, Regulatory Coordination and Compliance, PPQ, APHIS, 1400 Independence Ave SW, Washington, DC 20250, (480) 490-6454; Derek.A.Woller@USDA.gov.

SUPPLEMENTARY INFORMATION:

Background

Under the regulations in “Subpart A-Regulated Articles From Hawaii and the Territories” (7 CFR 318.13-1 through 318.13-17, referred to below as the regulations), the Animal and Plant Health Inspection Service (APHIS) prohibits or restricts the movement in interstate commerce of any plant or plant product from Hawaii and the Territories to prevent plant pests or noxious weeds from being introduced into or disseminated within the United States.

Section 318.13-4 contains a performance-based process for authorizing the interstate movement of certain fruits and vegetables from Hawaii or the Territories, as well as revising the requirements for interstate movement of fruits and vegetables from Hawaii or the Territories. Paragraph (c)(1) of § 318.13-4 provides that the name and origin of all fruits and vegetables authorized for interstate movement may be found at https://www.aphis.usda.gov/aphis/ourfocus/planthealth/complete-list-of-electronic-manuals. This web address provides access to a list of APHIS manuals governing the movement of articles from Hawaii and the Territories.

Paragraph (c)(4) of § 318.13-4 provides that, if the Administrator of APHIS determines that any of the phytosanitary measures required for the interstate movement of a particular fruit or vegetable are no longer necessary to reasonably mitigate the plant pest risk posed by the fruit or vegetable, APHIS will publish a notice in the Federal Register making its pest risk documentation and determination available for public comment.

Currently, the interstate movement of fresh Persian lime fruit (Citrus latifolia (Yu. Tanaka) Tanaka) for consumption from Hawaii is listed in the Hawaii Manual found at https://www.aphis.usda.gov/aphis/ourfocus/planthealth/complete-list-of-electronic-manuals as authorized interstate movement into the continental United States, provided that the limes are treated with forced hot air treatment in accordance with APHIS treatment schedule T103-b-1 or irradiation treatment in accordance with treatment schedule T105-a-1.

The State of Hawaii has requested whether a systems approach could be used as an alternative to the current mitigation structures. Based on this request, APHIS prepared a pest risk assessment that evaluated the pest risk associated with the interstate movement of fresh Persian lime fruit for consumption from Hawaii into the continental United States. APHIS made this initial pest risk assessment available for stakeholder review from December 3, 2024, to January 17, 2025, providing an informal opportunity for comment. Based on the conclusions of this pest risk assessment and stakeholder consultation, APHIS prepared a supplemental pest-specific risk assessment to determine the pest risk potential for Bactocera dorsalis (Oriental fruit fly, or OFF) on fresh Persian lime fruit for consumption from Hawaii. This latter assessment concludes that there is no evidence that undamaged, commercially produced Persian lime is a host of OFF. Based on these two risk assessments, a risk management document (RMD) was prepared to identify phytosanitary measures that could be applied to the Persian limes to mitigate the pest risk.

Therefore, in accordance with § 318.13-4(c), we are announcing the availability of our pest risk assessments and RMD for public review and comment. Those documents, as well as a description of the economic considerations associated with the interstate movement of Persian limes for consumption from Hawaii under the terms of the systems approach, may be viewed on the Regulations.gov website or in our reading room (see ADDRESSES above for a link to Regulations.gov and information on the location and hours of the reading room). You may request paper copies of the pest risk assessments and RMD by calling or writing to the person listed under FOR FURTHER INFORMATION CONTACT. Please refer to the subject of the analysis you wish to review when requesting copies.

After reviewing any comments we receive, we will announce our decision regarding whether to revise the requirements for the interstate movement of Persian limes for consumption from Hawaii into the continental United States to provide an alternative to the current mitigation structures in a subsequent notice. If the overall conclusions of our analysis and the Administrator's determination of risk remain unchanged following our consideration of the comments, then we will revise the requirements for the interstate movement of Persian limes for consumption from Hawaii to authorize the systems approach specified in the RMD.

Authority:7 U.S.C. 7701-7772 and 7781-7786; 7 CFR 2.22, 2.80, and 371.3.

Done in Washington, DC, this 23rd day of January 2026.
Michael Watson,
Administrator, Animal and Plant Health Inspection Service.

[FR Doc. 2026-01649 Filed 1-27-26; 8:45 am]

BILLING CODE 3410-34-P